DEPARTMENT OF THE TREASURY

Submission for OMB Review; Comment Request

May 18, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 25, 2004 to be assured of consideration.

Internal Revenue Service (IRS)

OMB Number: 1545-0915.

Form Number: IRS Form 8332.

Type of Review: Extension.

Title: Release of Claim to Exemption for Child of Divorced or Separated Parents.

Description: This form is used by the custodial parent to release claim to the dependency exemption for a child of divorced or separated parents. The data is used to verify that the noncustodial parent is entitled to claim the exemption.

Respondents: Individuals or households.

Estimated Number of Respondents/Recordkeeping: 150,000.

Estimated Burden Hours Respondent/Recordkeepers:

Recordkeeping—7 min.

Learning about the law or the form—5 min.

Preparing the form—7 min.

Copying, assembling, and sending the form to the IRS—14 min.

Frequency of response: Annually.

Estimated Total Reporting/Recordkeeping Burden: 82,500 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-11900 Filed 5-25-04; 8:45 am]

BILLING CODE 4830-01-P